DEPARTMENT OF ENERGY

Federal Energy Regulatory Commission

Combined Notice of Filings #1

Take notice that the Commission received the following electric rate filings:

Docket Numbers: ER17-1821-006.

Applicants: Panda Stonewall LLC.

Description: Compliance filing: Informational Filing (ER17-1821) under Schedule 2 of PJMI's OATT to be effective N/A.

Filed Date: 6/3/21.

Accession Number: 20210603-5091.

Comments Due: 5 p.m. ET 6/24/21.

Docket Numbers: ER20-1948-001.

Applicants: Potomac-Appalachian Highline Transmission, LLC, PJM Interconnection, L.L.C.

Description: Compliance filing: PATH submits Order 864 Compliance Filing re: Deficiency Letter to be effective N/A.

Filed Date: 6/3/21.

Accession Number: 20210603-5109.

Comments Due: 5 p.m. ET 6/24/21.

Docket Numbers: ER20-1951-001.

Applicants: Mid-Atlantic Interstate Transmission, LLC, PJM Interconnection, L.L.C.

Description: Compliance filing: MAIT submits filing in response to Commission's 5/4/2021 Deficiency Letter to be effective N/A.

Filed Date: 6/3/21.

Accession Number: 20210603-5122.

Comments Due: 5 p.m. ET 6/24/21.

Docket Numbers: ER21-1191-005.

Applicants: Southwestern Electric Power Company.

Description: Tariff Amendment: Amended and Restated Minden PSA to be effective 1/1/2018.

Filed Date: 6/3/21.

Accession Number: 20210603-5113.

Comments Due: 5 p.m. ET 6/24/21.

Docket Numbers: ER21-2064-000.

Applicants: Pacific Gas and Electric Company.

Description: Tariff Cancellation: Termination of La Paloma GSFA and GIA (TO SA 18) to be effective 8/3/2021.

Filed Date: 6/2/21.

Accession Number: 20210602-5114.

Comments Due: 5 p.m. ET 6/23/21.

Docket Numbers: ER21-2065-000.

Applicants: Midcontinent Independent System Operator, Inc.

Description: § 205(d) Rate Filing: 2021-06-02_Real-Time RSG Make Whole Payment Filing to be effective 8/2/2021.

Filed Date: 6/2/21.

Accession Number: 20210602-5115.

Comments Due: 5 p.m. ET 6/23/21.

Docket Numbers: ER21-2066-000.

Applicants: Midcontinent Independent System Operator, Inc.

Description: § 205(d) Rate Filing: 2021-06-02_Attachment FF Access to Transmission Planning Information to be effective 8/2/2021.

Filed Date: 6/2/21.

Accession Number: 20210602-5117.

Comments Due: 5 p.m. ET 6/23/21.

Docket Numbers: ER21-2067-000.

Applicants: PJM Interconnection, L.L.C.

Description: § 205(d) Rate Filing: Original WMPA, Service Agreement No. 6084; Queue No. AF2-292 to be effective 5/4/2021.

Filed Date: 6/2/21.

Accession Number: 20210602-5119.

Comments Due: 5 p.m. ET 6/23/21.

Docket Numbers: ER21-2068-000.

Applicants: ITC Midwest LLC.

Description: MISO Schedule 50 Cost Recovery Filing of ITC Midwest, LLC.

Filed Date: 6/2/21.

Accession Number: 20210602-5165.

Comments Due: 5 p.m. ET 6/23/21.

Docket Numbers: ER21-2069-000.

Applicants: PJM Interconnection, L.L.C.

Description: Tariff Cancellation: Notice of Cancellation of WMPA, Service Agreement No. 4765; Queue No. AB1-123 to be effective 7/3/2021.

Filed Date: 6/3/21.

Accession Number: 20210603-5031.

Comments Due: 5 p.m. ET 6/24/21.

Docket Numbers: ER21-2073-000.

Applicants: Tri-State Generation and Transmission Association, Inc.

Description: § 205(d) Rate Filing: Rate Schedule FERC No. 327 between Tri-State and United Power to be effective 6/4/2021.

Filed Date: 6/3/21.

Accession Number: 20210603-5071.

Comments Due: 5 p.m. ET 6/24/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 3, 2021.
Debbie-Anne A. Reese,
Deputy Secretary.

[FR Doc. 2021-12068 Filed 6-8-21; 8:45 am]

BILLING CODE 6717-01-P